NATIONAL CREDIT UNION ADMINISTRATION

Revision of Agency Information Collection of a Previously Approved Collection; Request for Comments

AGENCY: National Credit Union Administration (NCUA).

ACTION: Notice of submission to the Office of Management and Budget.

SUMMARY: As required by the Paperwork Reduction Act of 1995, The National Credit Union Administration (NCUA) is submitting the following extensions and revisions of currently approved collections to the Office of Management and Budget (OMB) for renewal.

DATES: Written comments should be received on or before December 13, 2024 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Madeleine Humm at (703) 518-6547, emailing PRAComments@ncua.gov, or viewing the entire information collection request at www.reginfo.gov.

SUPPLEMENTARY INFORMATION: OMB Number: 3133-0200.

Title: Consumer Assistance Center.

Type of Review: Revision of a currently approved collection.

Abstract: NCUA has centralized the intake of consumer complaints and inquiries under the Consumer Assistance Center, via the myCreditUnion.gov. The Consumer Assistance Center assists consumer with information about federal financial consumer protection and share insurance matters and assists in resolving disputes with credit unions in resolving disputes. Consumers can make inquiries or submit a complaint electronically through the MyCreditUnion.gov website. The on-line portal offers a template for consumers to use to identify the information needed.

Affected Public: Private Sector: Not-for-profit institutions.

Estimated Number of Respondents: 13, 215.

Estimated Number of Responses per Respondent: 1.

Estimated Total Annual Responses: 13,215.

Estimated Total Annual Burden Hours: 6,239.

Reason for Change: An addition of 4,030 burden hours is due to an adjustment of the burden estimate for completing the forms.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2024-26319 Filed 11-12-24; 8:45 am]

BILLING CODE 7535-01-P